DEPARTMENT OF THE INTERIOR

Bureau of Land Management

[LLCAN01000 L10200000.XZ0000 16X LXSIOVHD0000]

Notice of Public Meeting: Northern California Resource Advisory Council Resource Management Plan Subcommittee; Postponed

AGENCY: Bureau of Land Management, Interior.

ACTION: Notice of postponed public meeting.

SUMMARY: In accordance with the Federal Land Policy and Management Act of 1976 (FLPMA), and the Federal Advisory Committee Act of 1972 (FACA), the U.S. Department of the Interior, Bureau of Land Management (BLM) Northern California Resource Advisory Council meeting is postponed.

DATES: The postponed meeting was to be held Thursday, June 23rd, 2016, at the Bureau of Land Management Arcata and Redding Field Offices.

FOR FURTHER INFORMATION CONTACT: Todd Forbes, Northern California District Manager, (530) 224-2160; or Leisyka Parrott, Acting Public Affairs Officer, (707) 825-2313

SUPPLEMENTARY INFORMATION: The 15-member council advises the Secretary of the Interior, through the BLM, on a variety of planning and management issues associated with public land management on BLM-administered lands in northern California and far northwest Nevada. This meeting was postponed because the results from public envisioning meetings will not be ready for review by the meeting date.

Chris Rocker-Heppe,
Arcata Assistant Field Office Manager.

[FR Doc. 2016-12854 Filed 5-31-16; 8:45 am]

BILLING CODE 4310-40-P